DEPARTMENT OF JUSTICE

Notice of Lodging of Consent Decree Under the Clean Air Act

Notice is hereby given that on August 28, 2007, a proposed Consent Decree in United States v. Premier Industries, Inc., Civil Action No. ED CV 07-01092 (SGL)(OPx), was lodged with the United States District Court for the Central District of California.

The proposed Consent Decree resolves the United States' claims against Premier under section 113(b) of the Clean Air Act (“CAA”), 42 U.S.C. 7413(b), for alleged violations of the CAA and the federally approved California State Implementation Plan (“SIP”), including South Coast Air Quality Management District Rule 1175 (“Rule 1175”), at an expandable polystyrene foam block manufacturing facility it owned in Chino, CA (“Facility”). The Consent Decree requires Premier to pay a civil penalty of $326,000 and requires Premier and the company that recently acquired the Facility, Insulfoam, LLC, to: comply with Rule 1175's limits on VOC emissions; operate an emission control system that meets the requirements in the Rule; adhere to specified operational requirements; and limit the pentane content of raw materials used in the manufacturing process at the Facility.

The Department of Justice will receive for a period of thirty (30) days from the date of this publication comments relating to the proposed Consent Decree. Comments should be addressed to the Assistant Attorney General, Environment and Natural Resources Division, and either E-mailed to pubcomment-ees.enrd@usdoj.gov or mailed to P.O. Box 7611, U.S. Department of Justice, Washington, DC 20044-7611, and should refer to United States v. Premier Industries, Inc., D.J. Ref. 90-5-2-1-08413.

The proposed Consent Decree may be examined at the Office of the United States Attorney, 300 North Los Angeles Street, Los Angeles, CA 90012, and at U.S. EPA Region IX, 75 Hawthorne Street, San Francisco, CA 94105. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood tonia.fleetwood@usdoj.gov), fax number (202) 514-0097, phone confirmation number (202) 514-1547. When requesting a copy from the Consent Decree Library, please enclose a check in the amount of $8.50 for the Consent Decree (25 cents per page reproduction cost), payable to the U.S. Treasury or, if by e-mail or fax, forward a check in that amount to the Consent Decree Library at the stated address.

Henry S. Friedman,
Assistant Chief, Environmental Enforcement Section, Environment and Natural Resources Division.

[FR Doc. 07-4486 Filed 9-12-07; 8:45 am]

BILLING CODE 4410-15-M